DEPARTMENT OF COMMERCE

International Trade Administration

[A-475-818]

Certain Pasta From Italy: Preliminary Results and Rescission, in Part, of Antidumping Duty Administrative Review; 2023-2024

AGENCY: Enforcement and Compliance, International Trade Administration, Department of Commerce.

SUMMARY: The U.S. Department of Commerce (Commerce) preliminarily finds that La Molisana, S.p.A. (La Molisana) and Pastificio Lucio Garofalo S.p.A (Garofalo) made sales of certain pasta (pasta) from Italy at less than normal value during the period of review (POR), July 1, 2023, through June 30, 2024. Additionally, Commerce is rescinding this administrative review with respect to certain companies. We invite interested parties to comment on these preliminary results.

DATES: Applicable September 4, 2025.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

On July 24, 1996, Commerce published the antidumping duty order on pasta from Italy.¹ On July 1, 2024, we published in the Federal Register a notice of opportunity to request an administrative review of the Order.² On August 14, 2024, based on timely requests for review, and pursuant to section 751(a)(1)(B) of the Tariff Act of 1930, as amended (the Act), Commerce initiated an administrative review of the Order covering 18 entities.³ On December 9, 2024, Commerce tolled certain deadlines in this administrative proceeding by 90 days.⁴ On June 25, 2025, Commerce extended the deadline for these preliminary results until July 31, 2025.⁵ On July 29, 2025, Commerce further extended the deadline for these preliminary results until August 28, 2025.⁶ The deadline for these preliminary results is now August 28, 2025.

¹ See Notice of Antidumping Duty Order and Amended Final Determination of Sales at Less Than Fair Value: Certain Pasta from Italy, 61 FR 38547 (July 24, 1996) (Order).

² See Antidumping or Countervailing Duty Order, Finding, or Suspended Investigation; Opportunity to Request Administrative Review and Join Annual Inquiry Service List, 89 FR 54437 (July 1, 2024).

³ See Initiation of Antidumping and Countervailing Duty Administrative Reviews, 89 FR 66035, 66037 (August 14, 2024) (Initiation Notice).

⁴ See Memorandum, “Tolling of Deadlines for Antidumping and Countervailing Duty Proceedings,” dated December 9, 2024.

⁵ See Memorandum, “Extension of Deadline for Preliminary Results of Antidumping Duty Administrative Review,” dated June 25, 2025.

⁶ See Memorandum, “Second Extension of Deadline for Preliminary Results of Antidumping Duty Administrative Review,” dated July 29, 2025.

For a complete description of the events that followed the initiation of this review, see the Preliminary Decision Memorandum.⁷ A list of topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of Antidumping Duty Administrative Review: Certain Pasta from Italy; 2023-2024,” dated concurrently with, and hereby adopted by, this notice (Preliminary Decision Memorandum).

Scope of the Order

The product covered by this Order is pasta from Italy. A full description of the scope of the Order is contained in the Preliminary Decision Memorandum.

Rescission of Review, in Part

As noted above, we initiated this review with respect to 18 companies.⁸ During the course of the review, we selected two mandatory respondents, Garofalo and La Molisana.⁹ As a consequence, there are 16 companies upon which a review was requested, and which were not selected for individual examination.

⁸ See Initiation Notice, 89 FR at 66037.

⁹ See Memorandum, “Respondent Selection,” dated October 4, 2024.

Pursuant to 19 CFR 351.213(d)(1), based on the timely withdrawal of the request for review, we are rescinding this administrative review with respect to Pastificio Di Martino Gaetano e Flli S.p.A.; Pastificio Dei Campi S.p.A. (Di Martino).¹⁰ Furthermore, in accordance with 19 CFR 351.213(d)(3), Commerce will rescind an administrative review when there are no reviewable suspended entries of the subject merchandise during the POR for which liquidation was suspended.¹¹ Normally, upon completion of an administrative review, the suspended entries are liquidated at the antidumping duty assessment rate calculated for the review period.¹² Therefore, to conduct an administrative review of a company, there must be a suspended entry that Commerce can instruct U.S. Customs and Border Protection (CBP) to liquidate at the antidumping duty assessment rate calculated for the POR.¹³

¹⁰ See Di Martino's Letter, “Withdrawal of Request for Administrative Review,” dated October 16, 2024. We previously found that Pastificio Di Martino Gaetano e Flli S.p.A. and Di Martino with Pastificio Dei Campi S.p.A. are affiliated, and continue to treat them as a single entity. See Certain Pasta from Italy: Preliminary Results of Antidumping Duty Administrative Review and Partial Recission of Review; 2020-2021, 87 FR 47185 (August 2, 2022), unchanged in Certain Pasta from Italy: Final Results of Antidumping Duty Administrative Review; 2020-2021, 87 FR 67868 (November 10, 2022). We therefore initiated the instant review upon the single entity (i.e., Di Martino). See Initiation Notice, 89 FR at 66037. Accordingly, we are rescinding the review on the collapsed entity.

¹¹ See, e.g., Large Diameter Welded Pipe from Greece: Rescission of Antidumping Duty Administrative Review; 2022-2023, 89 FR 4274 (January 23, 2024).

¹² See 19 CFR 351.212(b)(1).

¹³ See 19 CFR 351.213(d)(3).

Based on our analysis of U.S. Customs and Border Protection (CBP) information, five companies listed in the Initiation Notice had no reviewable suspended entries of subject merchandise during the POR.¹⁴ On September 9, 2024, we notified parties of our intent to rescind this administrative review with respect to the five companies that had no reviewable suspended entries during the POR.¹⁵ As discussed in more detail in the Preliminary Decision Memorandum, we received comments from one of these parties, Pastificio Sgambaro, and have determined that the record supports a finding that the party did have entries of subject merchandise during the POR.¹⁶ Consequently, we are not rescinding the review with regard to Pastificio Sgambaro. As a result, we are also rescinding this review, in part, with respect to the four entities which had no entries in the POR, and for which withdrawal requests were not previously received from all parties requesting review.¹⁷ Consequently, we are rescinding this review, in part, with respect to a total of five companies.¹⁸

¹⁴ See Memorandum, “Release of Customs and Border Protection Data,” dated August 26, 2024.

¹⁵ See Memorandum, “Notice of Intent to Rescind Review, in Part,” dated September 9, 2024 (Intent to Rescind Notice).

¹⁶ See Preliminary Decision Memorandum at section “Recission of Review, in Part.”

¹⁷ See Appendix II.

¹⁸ Id.

Methodology

Commerce is conducting this review in accordance with section 751(a)(1)(B) of the Act. Pursuant to sections 776(a) and (b) of the Act, Commerce has preliminarily relied entirely upon facts otherwise available with adverse inferences (AFA) for both Garofalo and La Molisana. For a full description of the methodology underlying our conclusions, see the Preliminary Decision Memorandum.

Rate for Non-Examined Companies

The Act and Commerce's regulations do not directly address the establishment of a rate to be applied to individual companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted-average dumping margins established for exporters and producers individually investigated, excluding any zero or de minimis margins, and any margins determined entirely {on the basis of facts available}.” Section 735(c)(5)(B) of the Act provides that, where all rates are zero, de minimis, or based entirely on facts available, Commerce may use “any reasonable method” for assigning the rate to all other respondents.

As discussed in the Preliminary Decision Memorandum, we preliminarily based Garofalo's and La Molisana's weighted-average dumping margins entirely on AFA. We preliminarily find that the mandatory respondents' weighted-average dumping margin (i.e., 91.74 percent) is reasonably reflective of the non-selected companies' potential dumping margins during the POR.¹⁹ Therefore, consistent with the U.S. Court of Appeals for the Federal Circuit's decision in Albemarle,²⁰ and Commerce's practice,²¹ we preliminarily assigned the weighted-average dumping margin of 91.74 percent to the 11 companies not individually examined in this review.²² For further discussion, see the Preliminary Decision Memorandum.

¹⁹ See Preliminary Decision Memorandum at section “Application of Facts Available and Use of Adverse Inferences”; see also Certain Pasta from Italy: Notice of Court Decision Not in Harmony with the Results of Antidumping Duty Administrative Review; Notice of Amended Final Results, 87 FR 34844, 34845 (June 8, 2022) (Pasta from Italy 17-18 Amended Final).

²⁰ See Albemarle Corp. v. United States, 821 F.3d 1345 (Fed. Cir. 2016) (Albemarle).

²¹ See, e.g., Heavy Walled Rectangular Welded Carbon Steel Pipes and Tubes from the Republic of Turkey: Final Results of Antidumping Duty Administrative Review and Final Determination of No Shipments; 2017-2018, 84 FR 64455 (November 22, 2019) (applying to the companies not selected for individual examination a rate based on the mandatory respondent's total AFA rate); see also Certain Steel Nails from Taiwan: Preliminary Results of Antidumping Duty Administrative Review and Preliminary Determination of No Shipments; 2018-2019, 85 FR 19138 (April 6, 2020) (applying to the companies not selected for individual examination a rate based on the mandatory respondents' total AFA rates), unchanged in Certain Steel Nails from Taiwan: Final Results of Antidumping Duty Administrative Review and Final Determination of No Shipments; 2018-2019, 85 FR 76014 (November 27, 2020).

²² See Appendix III.

Preliminary Results of Review

As a result of this review, we preliminarily determine the following estimated weighted-average dumping margins exist for the period July 1, 2023, through June 30, 2024:

Producer/exporter | Weighted- average dumping margin (percent)
La Molisana, S.p.A | 91.74
Pastificio Lucio Garofalo S.p.A | 91.74
Non-Individually Examined Companies ²³ | 91.74

Verification

²³ Id.

On November 22, 2024, 8th Avenue Food & Provisions, Inc., and Winland Foods, Inc. (collectively, domestic interested parties), requested that Commerce conduct verification of the questionnaire responses submitted in this administrative review.²⁴ However, because the individually examined respondents in this administrative review did not provide information requested by Commerce, Commerce preliminarily determines each of the examined respondents to have been uncooperative, and thus, we will not conduct verification.

²⁴ See Domestic Interested Parties' Letter, “Verification Request,” dated November 22, 2024.

Disclosure and Public Comment

Normally, Commerce discloses to interested parties the calculations performed in connection with a preliminary determination within five days of any public announcement or, if there is no public announcement, within five days of the date of publication of the notice of preliminary results in the Federal Register, in accordance with 19 CFR 351.224(b). However, because Commerce preliminarily applied total AFA to each of the individually examined companies in this investigation, in accordance with section 776 of the Act, and the applied AFA rate is based solely on a rate calculated for a respondent in a prior segment of this proceeding,²⁵ there are no calculations to disclose.

²⁵ See Certain Pasta from Italy: Final Results of Antidumping Duty Administrative Review; 2017-2018, 85 FR 2714 (January 16, 2020); see also Pasta from Italy 17-18 Amended Final, 87 FR at 34844-45.

Case briefs or other written comments may be submitted to the Assistant Secretary for Enforcement and Compliance no later than 21 days after the date of publication of these preliminary results.²⁶ Rebuttal briefs, limited to issues raised in the case briefs, may be filed no later than five days after the date for filing case briefs.²⁷ Interested parties who submit case briefs or rebuttal briefs in this proceeding must submit: (1) a table of contents listing each issue; and, (2) a table of authorities.²⁸

²⁶ Commerce is exercising its discretion under 19 CFR 351.309(c)(1)(ii) to alter the time limit for the filing of case briefs. See 19 CFR 351.309(c)(1)(ii).

²⁷ See 19 CFR 351.309(d); see also Administrative Protective Order, Service, and Other Procedures in Antidumping and Countervailing Duty Proceedings, 88 FR 67069, 67077 (September 29, 2023) (APO and Service Procedures).

²⁸ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²⁹ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).³⁰

²⁹ We use the term “issue” here to describe an argument that Commerce would normally address in a comment of the Issues and Decision Memorandum.

³⁰ See APO and Service Procedures.

Interested parties who wish to request a hearing must submit a written request to the Assistant Secretary for Enforcement and Compliance, U.S. Department of Commerce, using Enforcement and Compliance's ACCESS system within 30 days of publication of this notice.³¹ Requests should contain the party's name, address, and telephone number, the number of participants, and a list of the issues to be discussed. Issues raised in the hearing will be limited to those raised in the case and rebuttal briefs. If a request for a hearing is made, we will inform parties of the scheduled date for the hearing at a time and location to be determined.³² Parties should confirm by telephone the date, time, and location of the hearing no fewer than two days before the scheduled date. Parties are reminded that all briefs and hearing requests must be filed electronically using ACCESS and received successfully in their entirety by 5:00 p.m. Eastern Time on the due date.

³¹ See 19 CFR 351.310(c).

³² See 19 CFR 351.310.

Unless the deadline is extended pursuant to section 751(a)(3)(A) of the Act and 19 CFR 351.213(h)(2), Commerce will issue the final results of this administrative review, including the results of our analysis of the issues raised by the parties in their case briefs, not later than 120 days after the date of publication of this notice, pursuant to section 751(a)(3)(A) of the Act.

Assessment Rates

Upon issuance of the final results, Commerce shall determine, and U.S. Customs and Border Protection (CBP) shall assess, antidumping duties on all appropriate entries covered by this review.³³ If, in the final results of this administrative review, Commerce continues to base Garofalo's and La Molisana's weighted-average dumping margins upon total AFA, then Commerce will instruct CBP to assess antidumping duties on subject merchandise sold by Garofalo and La Molisana and entered, or withdrawn from warehouse, for consumption during the POR at a rate equal to the weighted-average dumping margin in the final results. The final results of this review shall be the basis for the assessment of antidumping duties on entries of merchandise covered by this review and for future deposits of estimated duties, where applicable.³⁴

³³ See 19 CFR 351.212(b)(1).

³⁴ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which this review is rescinded, we will instruct CBP to assess antidumping duties on all appropriate entries at a rate equal to the cash deposit of estimated antidumping duties required at the time of entry, or withdrawal from warehouse, for consumption, during the POR, in accordance with 19 CFR 351.212(c)(l)(i). For the companies rescinded from review, Commerce intends to issue assessment instructions to CBP no earlier than 35 days after the publication of this notice in the Federal Register.

Cash Deposit Requirements

The following cash deposit requirements will be effective on or after publication of the notice of the final results of the administrative review for all shipments of pasta from Italy entered, or withdrawn from warehouse, for consumption on or after the date of publication of the final results, as provided by section 751(a)(2) of the Act: (1) the cash deposit rate for each company listed above will be equal to the dumping margins established in the final results of this review, except if the ultimate rate is de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original less-than-fair-value investigation, but the producer is, then the cash deposit rate will be the rate established for the most recently completed segment of the proceeding for the producer of the merchandise; and (4) the cash deposit rate for all other producers or exporters will continue to be 15.45 percent, the all-others rate established in the section 129 determination.³⁵ These cash deposit requirements, when imposed, shall remain in effect until further notice.

³⁵ See Implementation of the Findings of the WTO Panel in US-Zeroing (EC): Notice of Determinations Under Section 129 of the Uruguay Round Agreements Act and Revocations and Partial Revocations of Certain Antidumping Duty Orders, 72 FR 25261, 25263 (May 4, 2007).

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act, 19 CFR 351.213(d)(3), 19 CFR 351.213(h)(2), and 19 CFR 351.221(b)(4).

Dated: August 28, 2025.
Abdelali Elouaradia,
Deputy Assistant Secretary for Enforcement and Compliance.

Appendix I

List of Topics Discussed in the Preliminary Decision Memorandum

I. Summary

II. Background

III. Scope of the Order

IV. Rescission of Review, In Part

V. Application of Facts Available and Use of Adverse Inferences

VI. Companies Not Selected for Individual Examination

VII. Recommendation

Appendix II

Companies Rescinded From Administrative Review

1. Andriani S.p.A

2. George DeLallo Company, Inc.

3. Pastificio Di Martino Gaetano e Flli S.p.A.; Pastificio Dei Campi S.p.A.

4. Pastificio Mediterranea S.R.L.

5. Pastificio Rigo S.P.A

Appendix III

Non-Individually Examined Companies Receiving a Review-Specific Rate

1. Agritalia S.r.L

2. Aldino S.r.l

3. Antiche Tradizioni Di Gragnano S.R.L.

4. Barilla G. e R. Fratelli Societa per Azioni Socio Unico

5. Gruppo Milo SpA

6. Pastificio Artigiano Cav. Giuseppe Cocco S.R.L.

7. Pastificio Chiavenna S.r.l

8. Pastificio Liguori S.p.A.; PAM S.P.A.; PAM S.R.L.; Liquori Pastificio Dal 1820 S.P.A.; Pastificio Della Forma S.r.L.

9. Pastificio Sgambaro

10. Pastificio Tamma S.r.l.

11. Rummo S.p.A.; Pasta Castiglioni S.r.l.; Molino e Pastificio (Rummo); Rummo Lenta Lavorazione S.p.A.

[FR Doc. 2025-16911 Filed 9-3-25; 8:45 am]

BILLING CODE 3510-DS-P